DEPARTMENT OF ENERGY

Federal Energy Regulatory Commission

[Docket No. RP00-425-001]

Williams Gas Pipelines Central, Inc.; Notice of Compliance Filing

October 4, 2000.

Take notice that on September 29, 2000, Williams Gas Pipelines Central, Inc. (Williams) tendered for filing as part of its FERC Gas Tariff, Original Volume No. 1, the following tariff sheets to become effective September 1, 2000.

First Revised Original Sheet No. 215

Substitute Original Sheet No. 299

Substitute Original Sheet No. 300

Williams states that this compliance filing is being made pursuant to Section 4 of the Natural Gas Act and in compliance with Ordering Paragraph B of the Commission's August 31, 2000 Order Accepting Tariff Sheets Subject to Conditions and Clarification in Docket No. RP00-425-000. Williams Gas Pipelines Central, Inc., 92 FERC ¶ 61,190 (2000).

In its August 31, 2000 Order, the Commission accepted, subject to conditions and clarification, tariff sheets filed by Williams on July 31, 2000 proposing to permit Williams to charge negotiated rates pursuant to the Commission's Alternative Rates Policy Statement and to implement generic discount conditions. In this compliance filing, Williams hereby provides the clarifications and/or tariff modifications required by the August 31, 2000 Order.

Williams states that copies of the revised tariff sheets are being mailed to Williams's jurisdictional customers, all parties appearing on the official service list, and interested state commissions.

Any person desiring to protest said filing should file a protest with the Federal Energy Regulatory Commission, 888 First Street, NW., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call (202-208-2222 for assistance).

Linwood A. Watson, Jr.,
Acting Secretary.

[FR Doc. 00-26045 Filed 10-10-00; 8:45 am]

BILLING CODE 6717-01-M